DEPARTMENT OF ENERGY

Federal Energy Regulatory Commission

[Docket No. EC04-58-000, et al.]

Louisiana Generating LLC, et al.; Electric Rate and Corporate Filings

January 28, 2004.

The following filings have been made with the Commission. The filings are listed in ascending order within each docket classification.

1. Louisiana Generating LLC, and Big Cajun I Peaking Power LLC

[Docket No. EC04-58-000]

Take notice that on January 23, 2004, Louisiana Generating LLC and Big Cajun I Peaking Power LLC (Applicants) filed with the Federal Energy Regulatory Commission an application pursuant to section 203 of the Federal Power Act for authorization in connection with the transfer from Louisiana Generating LLC to Big Cajun I Peaking Power LLC of an interest in certain of Louisiana Generating LLC's jurisdictional switchyard facilities located in Louisiana.

Comment Date: February 13, 2004.

2. Pacific Gas and Electric Company

[Docket No. ER04-413-000]

Take notice that on January 20, 2004, Pacific Gas and Electric Company (PG&E) tendered for filing Generator Special Facilities Agreements (GSFA), and Generator Interconnection Agreements between PG&E and Shiloh Wind Partners, LLC (Shiloh), Dinuba Energy, Inc. (Dinuba), and Kings River Conservation District (Kings River) (collectively, Parties).

PG&E states that copies of this filing have been served upon Shiloh, Dinuba, Kings River, the California Independent System Operator Corporation and the California Public Utilities Commission.

Comment Date: February 10, 2004.

3. Pacific Gas and Electric Company

[Docket No. ER04-414-000]

Take notice that on January 20, 2004, Pacific Gas and Electric Company (PG&E) tendered for filing a Generator Special Facilities Agreement, Generator Interconnection Agreement and a Supplemental Letter Agreement between PG&E and Calpine Gilroy Cogen, L.P. (Gilroy Cogen).

PG&E states that copies of this filing have been served upon Gilroy Cogen, the California Independent System Operator Corporation and the CPUC.

Comment Date: February 10, 2004.

4. Pacific Gas and Electric Company

[Docket No. ER04-415-000]

Take notice that on January 20, 2004, Pacific Gas and Electric Company (PG&E) tendered for filing Generator Special Facilities Agreements and Generator Interconnection Agreements between PG&E and the following parties: Berry Petroleum Company—Tannehill Cogen (Berry Tannehill), Berry Petroleum Company—University Cogen (Berry University), and Big Creek Water Works, Ltd. (Big Creek).

PG&E states that copies of this filing have been served upon Berry Tannehill, Berry University, Big Creek, the California Independent System Operator Corporation and the California Public Utilities Commission.

Comment Date: February 10, 2004.

5. Public Service Company of New Mexico

[Docket No. ER04-416-000]

Take notice that on January 20, 2004, Public Service Company of New Mexico (PNM) submitted for filing certain revisions to PNM's Open Access Transmission Tariff (OATT), in compliance with the FERC “Notice Clarifying Compliance Procedures” in FERC Docket Nos. RM02-1-000 and RM02-1-001, to incorporate the Large Generator Interconnection Procedures and Large Generator Interconnection Agreement, as modified consistent with regional reliability standards. PNM states that its filing is available for public inspection at its offices in Albuquerque, New Mexico.

PNM states that copies of the filing have been sent to all PNM large generation interconnection customers, to all entities that have pending large generation interconnection requests with PNM, to the New Mexico Public Regulation Commission, and to the New Mexico Attorney General.

Comment Date: February 10, 2004.

6. Xcel Energy Operating Companies

[Docket No. ER04-419-000]

Take notice that on January 20, 2004, Xcel Energy Services Inc., on behalf of Xcel Operating Companies, filed proposed revisions to the Xcel Energy Operating Companies Joint Open Access Transmission Tariff (Joint OATT) pursuant to section 205 of the Federal Power Act, 16 U.S.C. 824d (2000), and in compliance with Federal Energy Regulatory Commission's Order No. 2003, Standardization of Generator Interconnection Agreements and Procedures, Order No. 2003, 68 FR 49845 (August 19, 2003); FERC Stats. & Regs. ¶ 31,146 (2003) (Final Rule). Xcel states that the revised tariff pages incorporate into the Joint OATT the pro forma standard Large Generation Interconnection Procedures and the pro forma standard Large Generation Interconnection Agreement adopted in Order No. 2003, with certain limited variations to reflect regional differences and to provide consistency in application across the Xcel Energy Operating Companies. Xcel Energy Services, Inc. states that the proposed Joint OATT changes will affect new large generation interconnection requests (20 MW and above) to the transmission systems of Public Service Company of Colorado and Cheyenne Light, Fuel & Power Company. Xcel further states that the revised tariff sheets are proposed to be effective January 20, 2004, the date of the instant filing, pursuant to the final rule, without suspension.

Comment Date: February 10, 2004.

7. Central Maine Power Company

[Docket No. ER04-425-000]

Please take notice that on January 20, 2004, Central Maine Power Company (CMP) submitted a Notice of Assignment and Assumption with respect to the Continuing Site/Interconnection Agreement between CMP and FPL Energy Maine, Inc., FERC Electric Tariff, Fifth Revised Volume No. 3, Original Service Agreement Number 158.

Comment Date: February 10, 2004.

8. BlueStar Energy Services, Inc.

[Docket No. ER04-426-000]

Take notice that on January 20, 2004, BlueStar Energy Services, Inc. (BlueStar) petitioned the Commission for acceptance of Rate Schedule FERC No. 1; the granting of certain blanket approvals, including the authority to sell electricity at market-based rates; and the waiver of certain Commission regulations.

BlueStar states that it intends to engage in wholesale electric power and energy purchases and sales as a marketer and is not in the business of generating or transmitting electric power. BlueStar further states that it is an unaffiliated company.

Comment Date: February 10, 2004.

9. Nicor Energy Management Service Company

[Docket No. ER04-427-000]

Take notice that on January 20, 2004, Nicor Energy Management Services Company (NEMS), pursuant to section 35.15 of the Commission's regulations, filed with the Commission a Notice of Cancellation of its market-based wholesale electric tariff, which consists of Rate Schedule FERC No. 1 and all rate schedules and/or service agreements there under effective January 31, 2004.

Comment Date: February 10, 2004.

10. Dayton Power and Light Company

[Docket No. ER04-428-000]

Take notice that on January 20, 2004, Dayton Power and Light tendered for filing an original tariff sheet to comply with the Federal Energy Regulatory Commission's Final Rule on Standardization of Generator Interconnection Agreements and Procedures in Docket No. RM02-1-000 issued July 23, 2003.

Comment Date: February 10, 2004.

11. PacifiCorp

[Docket No. ER04-431-000]

Take notice that on January 20, 2004, PacifiCorp tendered for filing with the Federal Energy Regulatory Commission (Commission) a request for an extension of time to adopt the pro forma large generator interconnection tariff provisions (pro forma) of the Commission's Order No. 2003 or, in the alternative, a request for acceptance by the Commission of PacifiCorp's amended large generator interconnection provisions for incorporation into its open access transmission tariff. PacifiCorp states that these requests are necessary to protect its legal rights. PacifiCorp also states that copies of the filing were served upon all appropriate parties.

Comment Date: February 10, 2004.

12. Bangor Hydro-Electric Company, Central Maine Power Company, Fitchburg Gas and Electric Light Company, Maine Electric Power Company, New England Power Company, Northeast Utilities Service Company, on behalf of the Connecticut Light and Power Company, Western Massachusetts Electric Company, Public Service Company of New Hampshire, Holyoke Power and Electric Company, Holyoke Water Power Company, NSTAR Electric and Gas Corporation, on behalf of Boston Edison Company, Cambridge Electric Light Company, and Commonwealth Electric Company the United Illuminating Company, Unitil Energy Systems, Inc., and Vermont Electric Power Company

[Docket No. ER04-432-000]

Take notice that on January 20, 2004, New England Transmission Owners, consisting of the companies listed above, in compliance with Order No. 2003, Standardization of Generator Interconnection Agreements and Procedures, FERC ¶ 31,146 (2003), jointly submitted revisions to their Open Access Transmission Tariffs for Local Network Service incorporating, with proposed regional variations, Order No. 2003's pro forma Standardized Large Generator Interconnection Procedures and Standardized Large Generator Interconnection Agreement.

Comment Date: February 10, 2004.

13. New England Power Pool

[Docket No. ER04-433-000]

Take notice that on January 20, 2004, the New England Power Pool (NEPOOL) Participants Committee submitted for filing amendments to the NEPOOL Open Access Transmission Tariff designed to include standardized generator interconnection procedures and a standardized generator interconnection agreement for interconnections to the regional transmission system in New England. NEPOOL states that these amendments are filed in compliance with the Commission's Order No. 2003.

The NEPOOL Participants Committee states that copies of these materials were sent to the NEPOOL Participants, Non-Participant Transmission Customers and the New England state governors and regulatory commissions.

Comment Date: February 10, 2004.

14. Basin Electric Power Cooperative

[Docket No. NJ04-2-000]

Take notice that on January 20, 2004, Basin Electric Power Cooperative (Basin Electric) tendered for filing its Large Generator Interconnection Procedures (LGIP) and Large Generator Interconnection Agreement (LGIA) in accordance with Order No. 2003 in compliance with Standardization of Generator Interconnection Agreements and Procedures, Order No. 2003, 68 FR 49845, FERC Stats. & Regs. ¶ 31,146, 104 FERC ¶ 61,103 (2003), order denying stay and granting extension, 105 FERC ¶ 61,043 (2003).

Basin Electric requests that the Commission allow the Revised Sheets to become effective January 20, 2004.

Basin Electric states that copies of the filing were served upon customers under the West-Side OATT and the Public Service Company of Colorado, the Iowa Utilities Board, the Minnesota Public Utilities Commission, the Montana Public Service Commission, the Nebraska Public Service Commission, the New Mexico Public Service Commission, the North Dakota Public Service Commission, the South Dakota Public Utilities Commission, and the Wyoming Public Service Commission.

Comment Date: February 10, 2004.

15. New England Power Pool and New England Independent System Operator

[Docket No. OA97-237-016]

Take notice that on January 20, 2004, the New England Power Pool (NEPOOL) Participants Committee and ISO New England Inc. (ISO-NE), pursuant to the Commission's December 22, 2003, Order in Docket Nos. OA97-237-012, -013, and -014, 105 FERC ¶ 61,317 (the December 22 Order), and pursuant to rule 1907 of the Commission's rules of practice and procedure, 18 CFR 385.1907 (2003), have jointly submitted an informational report which: (1) Provides annual transmission revenue requirement submissions for the Fitchburg Gas and Electric Light Company, revised in accordance with the December 22 Order; and, (2) states that NEPOOL and ISO-NE will implement on or before NEPOOL's April 2004 billing cycle an adjustment for previously billed charges for regional network service under the formula rate provisions of the NEPOOL Tariff for charges in effect for the NEPOOL rate years June 1, 1997, through May 31, 2000, to reflect the findings in the December 22 Order regarding an audit of those charges undertaken by NEPOOL and ISO-NE.

The NEPOOL Participants Committee and ISO-NE state that copies of these materials were sent to the NEPOOL Participants and the New England State governors and regulatory commissions.

Comment Date: February 10, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Magalie R. Salas,
Secretary.

[FR Doc. E4-185 Filed 2-4-04; 8:45 am]

BILLING CODE 6717-01-P